DEPARTMENT OF TRANSPORTATION

Federal Aviation Administration

Agency Information Collection Activities: Requests for Comments; Clearance of Renewed Approval of Information Collection: Renewal, Agricultural Aircraft Operator Certificate Application

AGENCY: Federal Aviation Administration (FAA), DOT.

ACTION: Notice and request for comments.

SUMMARY: In accordance with the Paperwork Reduction Act of 1995, FAA invites public comments about our intention to request the Office of Management and Budget (OMB) approval to renew an information collection. The collection involves the submission of application FAA Form 8710-3 for the certification process. The information to be collected will be used to and/or is necessary to evaluate the operators request to become certified as an Agricultural Aircraft Operator.

DATES: Written comments should be submitted by April 9, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0049.

Title: Agricultural Aircraft Operator Certificate Application.

Form Numbers: FAA Form 8710-3.

Type of Review: This is a renewal of an information collection.

Background: Application for certificate issuance or amendment of a 14 CFR part 137 Agricultural Aircraft Operator Certificate. Application for a certificate issued under 14 CFR part 137 is made on a form, and in a manner, prescribed by the Administrator. The FAA form 8710-3 may be obtained from an FAA Flight Standards District Office and filed with the FAA Flight Standards District Office that has jurisdiction over the area in which the applicant's home base of operations is located.

The information collected includes: Type of application, Operators name/DBAs, telephone number, mailing address, physical address of the principal base of operations, Chief pilot/designee name, airman certificate grade and number, rotorcraft make/model registration numbers to be used and load combinations requested.

Respondents: 1755 active 14 CFR part 137 Certificate Holders.

Frequency: New applications as industry dictates, there is no renewal required for 14 CFR part 137 certificate holders, therefore, there is no recurring frequency.

Estimated Average Burden per Response: Approximately 30 minutes per application.

Estimated Total Annual Burden: New applications as industry dictates, there is no renewal required for 14 CFR part 137 certificate holders, therefore, there is no recurring burden.

Issued in Fort Worth, TX, on February 1, 2018.
Barbara L. Hall,
FAA Information Collection Clearance Officer, Performance, Policy, and Records Management Branch, ASP-110.

[FR Doc. 2018-02557 Filed 2-7-18; 8:45 am]

BILLING CODE 4910-13-P